DEPARTMENT OF COMMERCE

International Trade Administration

[A-570-964]

Seamless Refined Copper Pipe and Tube From the People's Republic of China: Final Results of Antidumping Duty Administrative Review; 2012-2013

AGENCY: Enforcement and Compliance, International Trade Administration, Department of Commerce.

SUMMARY: On December 1, 2014, the Department of Commerce (“the Department”) published its Preliminary Results of the 2012-2013 administrative review of the antidumping duty order on seamless refined copper pipe and tube (“copper pipe”) from the People's Republic of China (“PRC”).¹ The period of review (“POR”) is November 1, 2012 through October 31, 2013. We invited parties to comment on our Preliminary Results. Based on our analysis of the comments received, we made certain changes to our margin calculations for the mandatory respondent Golden Dragon Precise Copper Tube Group, Inc., Hong Kong GD Trading Co., Ltd., and Golden Dragon Holding (Hong Kong) International, Ltd. (collectively, “Golden Dragon”). The final weighted-average dumping margins for this review are listed in the “Final Results” section below.

¹ See Seamless Refined Copper Pipe and Tube From the People's Republic of China: Preliminary Results and Partial Rescission of Administrative Review; 2011-2012, 79 FR 71089 (December 1, 2014) (“Preliminary Results”).

DATES: Effective date: June 5, 2015.

FOR FURTHER INFORMATION CONTACT: James Martinelli, AD/CVD Operations, Office IV, Enforcement and Compliance, International Trade Administration, U.S. Department of Commerce, 14th Street and Constitution Avenue NW., Washington, DC 20230; telephone: (202) 482-2923.

Background

On December 1, 2014, the Department published its Preliminary Results. On January 7, 2015, and January 12, 2015, Cerro Flow Products, LLC, Wieland Copper Products, LLC, Mueller Copper Tube Products Inc., and Mueller Copper Tube Company, Inc. (collectively, “Petitioners”), and Golden Dragon submitted case briefs and rebuttal briefs, respectively.² On February 11, 2015, the Department held a public hearing on the final results of this proceeding in the Herbert Clark Hoover Building.³ On March 25, 2015, the Department extended the time period for issuing the final results of this review by 30 days, until April 30, 2015.⁴ On April 28, 2015, the Department extended the time period for issuing the final results of this review by an additional 30 days, until May 30, 2015.⁵

² See Letter from Petitioners, “Seamless Refined Copper Pipe and Tube from the People's Republic of China: Petitioners' Case Brief,” (January 7, 2015); see also Letter from Golden Dragon, “Case Brief; Seamless Refined Copper Pipe and Tube from China,” (January 7, 2015); see also Letter from Petitioners, “Seamless Refined Copper Pipe and Tube from the People's Republic of China: Petitioners' Rebuttal Brief,” (January 12, 2015); see also Letter from Golden Dragon, “Rebuttal Brief; Seamless Refined Copper Pipe and Tube from China,” (January 12, 2015).

³ See Enforcement and Compliance Public Hearing in the Matter of: Seamless Refined Copper Pipe and Tube Third Administrative Review, Before: Abdelali Elouaradia, Director, Office IV, Antidumping and Countervailing Duty Operations, (February 11, 2015).

⁴ See Memorandum to Christian Marsh, Deputy Assistant Secretary for Antidumping and Countervailing Duty Operations, through Howard Smith, Acting Office Director, Antidumping and Countervailing Duty Operations, Office IV, from James Martinelli, International Trade Compliance Analyst, Antidumping and Countervailing Duty Operations, Office IV “Seamless Refined Copper Pipe and Tube from the People's Republic of China: Extension of Deadline for Final Results of Antidumping Duty Administrative Review” (March 25, 2015).

⁵ See Memorandum to Christian Marsh, Deputy Assistant Secretary for Antidumping and Countervailing Duty Operations, through Howard Smith, Acting Office Director, Antidumping and Countervailing Duty Operations, Office IV, from James Martinelli, International Trade Compliance Analyst, Antidumping and Countervailing Duty Operations, Office IV “Seamless Refined Copper Pipe and Tube from the People's Republic of China: Extension of Deadline for Final Results of Antidumping Duty Administrative Review” (April 28, 2015). Because May 30, 2015 is a non-business day, the deadline is the next business day, June 1, 2015.

Scope of the Order

The merchandise subject to the order is seamless refined copper pipe and tube. The product is currently classified under Harmonized Tariff Schedule of the United States (“HTSUS”) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.⁶

⁶ For a complete description of the scope of this order, see Memorandum to Paul Piquado, Assistant Secretary for Enforcement and Compliance, from Christian Marsh, Deputy Assistant Secretary for Antidumping and Countervailing Duty Operations, regarding “Decision Memorandum for the Final Results of the 2012-2013 Administrative Review of the Antidumping Duty Order on Seamless Refined Copper Pipe and Tube from the People's Republic of China” (“Decision Memorandum”) dated concurrently with, and hereby adopted by, this notice.

Withdrawals of Administrative Review Requests

In the Preliminary Results, the Department rescinded this administrative review with regard to Luvata Tube (Zhongshan) Ltd. & Luvata Alltop (Zhongshan) Ltd. (collectively, “Luvata”), Shanghai Hailiang Copper Co., Ltd., and Zhejiang Hailiang Co., Ltd., as parties timely withdrew all review requests with respect to these companies, which all had a separate rate from a prior completed segment of this proceeding.⁷

⁷ See Preliminary Results at 71090.

Reviews were also requested for 11 additional companies listed in the Initiation Notice, and those requests were also timely withdrawn.⁸ However, for the final results, we are not rescinding the reviews for these 11 companies because they did not have a separate rate at the time of initiation of this review, and, therefore, each company will remain part of the PRC-wide entity. The PRC-wide entity is currently subject to this administrative review.⁹

⁸ See Initiation of Antidumping and Countervailing Duty Administrative Reviews and Request for Revocation in Part, 78 FR 79392 (December 30, 2013) (“Initiation Notice”). The 11 companies include: China Hailiang Metal Trading, Foshan Hua Hong Copper Tube Co., Ltd., Guilin Lijia Metals Co., Ltd., Hong Kong Hailiang Metal, Ningbo Jintian Copper Tube Co., Ltd., Shanghai Hailiang Metal Trading Limited, Sinochem Ningbo Ltd. & Sinochem Ningbo Import & Export Co., Ltd., Taicang City Jinxin Copper Tube Co., Ltd., Zhejiang Jiahe Pipes Inc., and Zhejiang Naile Copper Co., Ltd. These companies are not included in the collapsed entity of Hong Kong Hailiang Metal Trading Limited, Zhejiang Hailiang Co., Ltd., and Shanghai Hailiang Copper Co., Ltd.

⁹ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010-2011, 78 FR 10130 (February 13, 2013). A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013) (apply the change in practice to reviews for which the notice of opportunity to request an administrative review is published on or after December 4, 2013).

Analysis of Comments Received

All issues raised in the case and rebuttal briefs filed by parties in this review are addressed in the Decision Memorandum. A list of the issues that parties raised and to which we responded in the Decision Memorandum follows as an appendix to this notice. The Decision Memorandum is a public document and is on file electronically via Enforcement and Compliance's Antidumping and Countervailing Duty Centralized Electronic Service System (ACCESS). ACCESS is available to registered users at http://access.trade.gov, and is available to all parties in the Central Records Unit, room 7046 of the main Department of Commerce building. In addition, a complete version of the Decision Memorandum can be accessed directly at http://enforcement.trade.gov/frn/index.html. The signed paper copy and electronic version of the Decision Memorandum are identical in content.

Changes Since the Preliminary Results

Based on a review of the record and comments received from interested parties regarding our Preliminary Results, we made revisions to the margin calculations for Golden Dragon.¹⁰ We made the following changes to the margin calculation for Golden Dragon.

¹⁰ See Decision Memorandum.

• We included Golden Dragon's recycled copper, which is reintroduced into the production process, in the calculation of the copper consumption rate. We also gave Golden Dragon a by-product offset for the reintroduced copper.¹¹

¹¹ Id. at Comments 3 and 4.

• We revised the calculation for the truck freight calculation using factual information available on the record.¹²

¹² Id. at Comment 6.

• We removed import data from outside of the POR that was inadvertently included.¹³

¹³ Id. at Comment 7.

Final Results

We determine that the following weighted-average dumping margins exist for the POR:

Exporter | Weighted- average dumping margin (percent)
Golden Dragon Precise Copper Tube Group, Inc., Hong Kong GD Trading Co., Ltd., and Golden Dragon Holding (Hong Kong) International, Ltd | 10.50
PRC-Wide Entity ¹⁴ | 60.85

Assessment Rates

Pursuant to section 751(a)(2)(A) of the Tariff Act of 1930, as amended (“the Act”), and 19 CFR 351.212(b), the Department will determine, and U.S. Customs and Border Protection (“CBP”) shall assess, antidumping duties on all appropriate entries covered by this review. The Department intends to issue assessment instructions to CBP 15 days after the publication date of the final results of this review.

¹⁴ The PRC-Wide Entity includes, inter alia, Shanghai Hailiang Metal Trading Limited, Hong Kong Hailiang Metal, China Hailiang Metal Trading, Foshan Hua Hong Copper Tube Co., Ltd., Guilin Lijia Metals Co., Ltd., Sinochem Ningbo Import & Export Co., Ltd., Sinochem Ningbo Ltd., Taicang City Jinxin Copper Tube Co., Ltd., Ningbo Jintian Copper Tube Co., Ltd., Zhejiang Jiahe Pipes Inc., and Zhejiang Naile Copper Co., Ltd.

For Golden Dragon, the Department calculated importer-specific assessment rates based on the ratio of the total amount of dumping calculated for the importer's examined sales and the total entered value of those sales. We will instruct CBP to assess antidumping duties on all appropriate entries covered by this review when the importer-specific assessment rate is not zero or de minimis (i.e., less than 0.5 percent). Where an importer-specific assessment rate is zero or de minimis, we will instruct CBP to liquidate the appropriate entries without regard to antidumping duties.

For the PRC-wide entity, the Department will instruct CBP to liquidate all appropriate entries as an assessment rate for antidumping duties equal to the weighted-average dumping margin listed above in the Final Results section.

The Department announced a refinement to its assessment practice in non-market economy (“NME”) cases. Pursuant to this refinement in practice, for entries that were not reported in the U.S. sales databases submitted by companies individually examined during this review, the Department will instruct CBP to liquidate such entries at the rate for the NME-wide entity. In addition, if the Department determines that an exporter under review had no shipments of the subject merchandise, any suspended entries that entered under that exporter's case number (i.e., at that exporter's rate) will be liquidated at the rate for the NME-wide entity.¹⁵

¹⁵ For a full discussion of this practice, see Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by section 751(a)(2)(C) of the Act: (1) For the exporters identified above, the cash deposit rate will be equal to their weighted-average dumping margin in these final results of review; (2) for previously investigated or reviewed PRC and non-PRC exporters that received a separate rate in a previously completed segment of this proceeding, the cash deposit rate will continue to be the existing exporter-specific rate; (3) for all PRC exporters of subject merchandise that have not been found to be entitled a separate rate, the cash deposit rate will be that for the PRC-wide entity (i.e., 60.85 percent); and (4) for all non-PRC exporters of subject merchandise which have not received their own rate, the cash deposit rate will be the rate applicable to the PRC exporter that supplied that non-PRC exporter. These deposit requirements, when imposed, shall remain in effect until further notice.

Disclosure

We intend to disclose the calculations performed regarding these final results within five days of the date of publication of this notice in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Notifications to All Parties

This notice also serves as a reminder to parties subject to Administrative Protective Order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: May 29, 2015.
Paul Piquado,
Assistant Secretary for Enforcement and Compliance.

Appendix—Issues and Decision Memorandum

Summary

Background

Scope of the Order

List of Abbreviations and Acronyms

Discussion of the Issues

Comment 1: Whether the Department Properly Adjusted for VAT

Comment 2: Whether the Department Properly Applied Its Differential Pricing Analysis

Comment 3: Whether Golden Dragon Accurately Reported Its Copper Consumption Rate

Comment 4: Whether Golden Dragon Is Entitled to a By-Product Offset

Comment 5: Whether the Department Accurately Calculated Credit Expenses

Comment 6: Whether the Department Accurately Calculated the Truck Surrogate Value

Comment 7: Whether the Department Accurately Calculated the Solvents Surrogate Value

Recommendation

[FR Doc. 2015-13809 Filed 6-4-15; 8:45 am]

BILLING CODE 3510-DS-P